DEPARTMENT OF DEFENSE

Office of the Secretary

[Docket ID DOD-2020-OS-0054]

Proposed Collection; Comment Request

AGENCY: Office of the Chief Information Officer, Department of Defense (DoD).

ACTION: Information collection notice.

SUMMARY: In compliance with the Paperwork Reduction Act of 1995, the Chief Information Officer announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 28, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Ms. Angela James, Office of Information Management, DoD, at whs.mc-alex.esd.mbx.dd-dod-information-collections@mail.mil or call 571-372-7574.

SUPPLEMENTARY INFORMATION: Title; Associated Form; and OMB Number: Defense Industrial Base (DIB) Cybersecurity (CS) Program Point of Contact Information; OMB Control Number 0704-0490.

Needs and Uses: DoD's Defense Industrial Base (DIB) Cybersecurity (CS) Program enhances and supports DIB CS participants' capabilities to safeguard DoD information that resides on, or transits, DIB unclassified information systems. The operational implementation of this Program requires DoD to collect, share, and manage point of contact (POC) information for Program administration and management purposes. The Government will collect typical business POC information from all DIB CS participants to facilitate communication and share cyber threat information. To implement and execute this Program within their companies, DIB CS participants provide POC information to DoD during the application process to join the Program. This information includes the names, company names and mailing address, work divisions/groups, work email addresses, and work telephone numbers of company-identified POCs. DIB CS Program POCs include the Chief Executive Officer (CEO), Chief Information Officer (CIO), Chief Information Security Officer (CISO), General Counsel, Corporate or Facility Security Officer, and the Chief Privacy Officer, or their equivalents, as well as those administrative, policy, technical staff, and personnel designated to interact with the Government in executing the DIB CS Program (e.g., typically 3-10 company designated POCs). After joining the Program, DIB CS participants provide updated POC information to DoD when personnel changes occur.

Affected Public: Individuals and Households, Private Sector and Small Businesses.

Annual Burden Hours: 2,530 hours.

Number of Respondents: 7,590.

Responses per Respondent: 1.

Annual Responses: 7,590.

Average Burden per Response: 20 minutes.

Frequency: On occasion.

Dated: May 26, 2020.
Aaron T. Siegel,
Alternate OSD Federal Register Liaison Officer, Department of Defense.

[FR Doc. 2020-11544 Filed 5-28-20; 8:45 am]

BILLING CODE 5001-06-P